DEPARTMENT OF VETERANS AFFAIRS

[OMB Control No. 2900-0353]

Agency Information Collection Activity Under OMB Review: Certification of Lessons Completed

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0353.

FOR FURTHER INFORMATION CONTACT: Maribel Aponte, Office of Enterprise and Integration, Data Governance Analytics (008), 1717 H Street NW, Washington, DC 20006, (202) 266-4688 or email maribel.aponte@va.gov. Please refer to “OMB Control No. 2900-0353” in any correspondence.

SUPPLEMENTARY INFORMATION: Authority: 38 U.S.C. 3032(d), 3034, 3241, 3323, 3474, 3481, 3484, 3534(b), 3680(b), 3684, 3686(a), and 10 U.S.C. 16131(e), and chapter 31 section 510., and 38 CFR 21.4203(e), 21.4206, 21.5200(d) & (g), 21.7140(c)(3), 21.7159, 21.7640(a)(4), 21.7659, and 21.9720.

Title: Certification of Lessons Completed.

OMB Control Number: 2900-0353.

Type of Review: Revision of a currently approved collection.

Abstract: VA uses information from the current collection to determine the number of lessons completed by the student and serviced by the correspondence school, and to determine the date of completion or termination of correspondence training. VA pays education benefits based on the information furnished on the form. Without this information, VA would be unable to determine the proper payment or the student's training status.

An agency may not conduct or sponsor, and a person is not required to respond to a collection of information unless it displays a currently valid OMB control number. The Federal Register Notice with a 60-day comment period soliciting comments on this collection of information was published at 86 FR 216 on November 12, 2021, pages 62887 and 62888.

Affected Public: Individuals or Households.

Estimated Annual Burden: 103 hours.

Estimated Average Burden per Respondent: 10 minutes.

Frequency of Response: Quarterly.

Estimated Number of Respondents: 616.

By direction of the Secretary.
Maribel Aponte,
VA PRA Clearance Officer, Office of Enterprise and Integration, Data Governance Analytics, Department of Veterans Affairs.

[FR Doc. 2022-00730 Filed 1-14-22; 8:45 am]

BILLING CODE 8320-01-P